DEPARTMENT OF TRANSPORTATION

Federal Railroad Administration

[Docket No. FRA-2018-0091]

Program Modification Approval: BNSF Railway Company

AGENCY: Federal Railroad Administration (FRA), Department of Transportation (DOT).

ACTION: Notice of approval of modification.

SUMMARY: FRA is issuing this notice to explain its rationale for granting a modification to the previously-approved BNSF Railway Company (BNSF) Test Program designed to test track inspection technologies (i.e., an autonomous track geometry measurement system) and new operational approaches to track inspections. The previously-approved Test Program included a limited, temporary suspension of a substantive FRA rule that is necessary to facilitate the conduct of the Test Program.

FOR FURTHER INFORMATION CONTACT: Yu-Jiang Zhang, Staff Director, Track and Structures Division, Office of Railroad Safety, FRA, 1200 New Jersey Avenue SE, Washington, DC 20590, telephone (202) 493-6460 or email yujiang.zhang@dot.gov; Aaron Moore, Attorney, Office of Chief Counsel, FRA, 1200 New Jersey Avenue SE, Washington, DC 20590, telephone (202) 493-7009 or email aaron.moore@dot.gov.

SUPPLEMENTARY INFORMATION: On September 26, 2018, FRA approved BNSF's Test Program and, subject to certain conditions designed to ensure safety, suspended the requirements of 49 CFR 213.233(c) as necessary to carry out the Test Program. For more information about the previously-approved Test Program, please see docket number FRA-2018-0091 at www.regulations.gov.

On August 19, 2020, BNSF petitioned FRA to modify Phase IV of the BNSF Test Program to reduce the required automated inspections from twice monthly to “varying intervals up to a maximum of four weeks between inspections.” No other revisions were requested.

After review and analysis of BNSF's request, FRA approved BNSF's request and modified the Test Program to create a new Phase V. A copy of FRA's letter approving BNSF's request is available in docket number FRA-2018-0091 at www.regulations.gov. FRA's letter approving BNSF's request states that all Phase IV metrics and requirements will apply to Phase V. BNSF must also continue to meet the conditions outlined in FRA's September 26, 2018, and October 24, 2018 letters, available in docket number FRA-2018-0091 at www.regulations.gov, and notify FRA of the proposed start date of Phase V.

As explained in its approval letter, FRA finds, considering the data received from the Test Program so far, the addition of Phase V is necessary for FRA to further evaluate potential optimal combinations of visual and automated inspections.

John Karl Alexy,
Associate Administrator for Railroad Safety, Chief Safety Officer.

[FR Doc. 2020-20752 Filed 9-18-20; 8:45 am]

BILLING CODE 4910-06-P